DEPARTMENT OF THE INTERIOR

National Park Service

Notice of Intent to Repatriate Cultural Items: Heard Museum, Phoenix, AZ

AGENCY: National Park Service, Interior.

ACTION: Notice.

Notice is here given in accordance with the Native American Graves Protection and Repatriation Act (NAGPRA), 25 U.S.C. 3005, of the intent to repatriate cultural items in the possession of the Heard Museum, Phoenix, AZ that meet the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In the early 1900s, cultural items were collected by the Fred Harvey Company and donated to the Heard Museum by the Fred Harvey Corporation in 1978. The five cultural items are one lot of three ceramic jars with mesh sleeves and two canvas pouches which are part of an altar setting (635P); one lot of a white stone mountain lion fetish and hide medicine pouch (1458CI); one lot of three stone fetishes and a hide pouch (1692CI); one stone fetish used by Zuni medicine societies, circa 1934 (1704CI); and one lot that consists of a Pueblo II period ceramic paint jar, hide pouch, ceramic bowl, and 16 peyote fetishes, circa 1900 (1746CI).

In 1975, two cultural items were donated to the Heard Museum by Mr. C.G. Wallace. The two cultural items consist of a stone fetish (NA-SW-ZU-F-92) and a carved horn fetish or container (NA-SW-ZU-F-93).

In 1974, two cultural items were donated to the Heard Museum by Woodar's Indian Arts. The two cultural items are a pair of wrapped feathers (NA-SW-ZU-I-3a,b) and a feather fetish (NA-SW-ZU-I-4). The cultural items are associated with the Zuni medicine society.

On March 15, 1996, and October 17, 2008, representatives of the Zuni Tribe of the Zuni Reservation, New Mexico consulted with museum staff, examined the collections and determined that the above-described objects were sacred objects needed by Zuni religious leaders for the practice of traditional Native American religion, and eligible for repatriation under NAGPRA.

Officials of the Heard Museum have determined that, pursuant to 25 U.S.C. 3001 (3)(C), the nine cultural items described above are specific ceremonial objects needed by traditional Native American religious leaders for the practice of traditional Native American religions by their present-day adherents. Officials of the Heard Museum also have determined that, pursuant to 25 U.S.C. 3001 (2), there is a relationship of shared group identity that can be reasonably traced between the sacred objects and the Zuni Tribe of the Zuni Reservation, New Mexico.

Representatives of any other Indian tribe that believes itself to be culturally affiliated with the sacred objects should contact Frank Goodyear, Jr., Director, Heard Museum, 2301 N. Central Avenue, Phoenix, AZ 85004, telephone (602) 252-8840, before March 4, 2009. Repatriation of the sacred objects to the Zuni Tribe of the Zuni Reservation, New Mexico may proceed after that date if no additional claimants come forward.

The Heard Museum is responsible for notifying the Hopi Tribe of Arizona; Ohkay Owingeh, New Mexico (formerly the Pueblo of San Juan); Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico that this notice has been published.

Dated: December 31, 2008
Sherry Hutt,
Manager, National NAGPRA Program.

[FR Doc. E9-2126 Filed 1-30-09; 8:45 am]

BILLING CODE 4312-50-S